DEPARTMENT OF THE INTERIOR

Bureau of Indian Affairs

[190A2100DD/AAKC001030/A0A501010.999900 253G; OMB Control Number 1076-0174]

Agency Information Collection Activities; Energy Resource Development Program Grants

AGENCY: Bureau of Indian Affairs, Interior.

ACTION: Notice of information collection; request for comment.

SUMMARY: In accordance with the Paperwork Reduction Act of 1995, we, the Office of the Assistant Secretary-Indian Affairs (AS-IA) are proposing to renew an information collection.

DATES: Interested persons are invited to submit comments on or before August 5, 2019.

ADDRESSES: Send your comments on this information collection request (ICR) by mail to the Winter Jojola-Talburt, U.S. Department of the Interior, Office of Indian Energy and Economic Development, Division of Energy and Mineral Development, 13922 Denver West Pkwy, Ste. 200, Lakewood, Colorado 80401; or by email at ieedgrants@bia.gov.

Please reference OMB Control Number 1076-0174 in the subject line of your comments.

FOR FURTHER INFORMATION CONTACT: To request additional information about this ICR, contact Winter Jojola-Talburt by email at ieedgrants@bia.gov.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the AS-IA; (2) will this information be processed and used in a timely manner; (3) is the estimate of burden accurate; (4) how might the AS-IA enhance the quality, utility, and clarity of the information to be collected; and (5) how might the AS-IA minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Office of Indian Energy and Economic Development (IEED) administers and manages the energy resource development grant program under the Energy and Minerals Development Program (EMDP). Congress may appropriate funds to EMDP on a year-to-year basis. When funding is available, IEED may solicit proposals for energy resource development projects from Indian Tribes and Tribal energy resource development organizations for use in carrying out projects to promote the integration of energy resources, and to process, use or develop those energy resources on Indian land. The projects may be in the areas of exploration, assessment, development, feasibility, or market studies. Indian Tribes that would like to apply for an EMDP grant must submit an application that includes certain information, and must assist IEED by providing information in support of any National Environmental Policy Act (NEPA) analyses. Upon acceptance of an application, a Tribe must then submit one-to two-page quarterly progress reports summarizing events, accomplishments, problems and/or results in executing the project. Quarterly reports assist IEED staff with project monitoring of the EMDP program and ensure that projects are making adequate progress in achieving the project's objectives.

Title of Collection: Energy and Mineral Development Program Grants.

OMB Control Number: 1076-0174.

Form Number: None.

Type of Review: Extension of a currently approved collection.

Respondents/Affected Public: Federally recognized Indian Tribes with Indian land.

Total Estimated Number of Annual Respondents: 53 applicants per year; 34 project participants each year.

Total Estimated Number of Annual Responses: 53 per year for applications; 136 per year for progress reports.

Estimated Completion Time per Response: 40 hours per application; 1.5 hours per progress report.

Total Estimated Number of Annual Burden Hours: 2,324 hours (2,120 for applications and 204 for progress reports).

Respondent's Obligation: Required to Obtain or Retain a Benefit.

Frequency of Collection: Once per year for applications; 4 times per year for progress reports.

Total Estimated Annual Nonhour Burden Cost: $0.

An agency may not conduct or sponsor and a person is not required to respond to a collection of information unless it displays a currently valid OMB control number.

The authority for this action is the Paperwork Reduction Act of 1995 (44 U.S.C. 3501 et seq.).

Elizabeth K. Appel,
Director, Office of Regulatory Affairs and Collaborative Action—Indian Affairs.

[FR Doc. 2019-11552 Filed 6-3-19; 8:45 am]

BILLING CODE 4337-15-P